DEPARTMENT OF TRANSPORTATION

Federal Aviation Administration

14 CFR Part 39

[Docket No. 2001-NM-63-AD; Amendment 39-12809; AD 2002-14-09]

RIN 2120-AA64

Airworthiness Directives; McDonnell Douglas Model MD-11 and MD-11F Airplanes

AGENCY: Federal Aviation Administration, DOT.

ACTION: Final rule.

SUMMARY: This amendment supersedes an existing airworthiness directive (AD), applicable to certain McDonnell Douglas Model MD-11 and MD-11F airplanes, that currently requires replacement of the existing terminal strips and supports above the main cabin area; and installation of spacers between terminal strips and mounting brackets in the avionics compartment; as applicable. This amendment requires replacing the applicable terminal strips in the avionics compartment with new terminal strips. This amendment also requires performing an inspection to detect arcing damage of the surrounding structure of the terminal strips and electrical cables in the avionics compartment, and repairing or replacing any damaged component with a new component. This amendment is prompted by reports of arcing between the power feeder cables and support brackets of the terminal strips on airplanes previously modified per the existing AD. The actions specified by this AD are intended to prevent electrical arcing caused by power feeder cable terminal lugs grounding against terminal strip support brackets, which could result in smoke and fire in the main cabin or avionics compartment.

DATES: Effective August 23, 2002.

The incorporation by reference of McDonnell Douglas Alert Service Bulletin MD11-24A178, Revision 01, dated December 17, 2001, as listed in the regulations, is approved by the Director of the Federal Register as of August 23, 2002.

The incorporation by reference of McDonnell Douglas Alert Service Bulletin MD11-24A150, dated March 25, 1999, as listed in the regulations, was approved previously by the Director of the Federal Register as of March 23, 2000 (65 FR 8025, February 17, 2000).

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Technical Information: Brett Portwood, Aerospace Engineer, Systems and Equipment Branch, ANM-130L, FAA, Los Angeles Aircraft Certification Office, 3960 Paramount Boulevard, Lakewood, California 90712-4137; telephone (562) 627-5350; fax (562) 627-5210.

Other Information: Sandi Carli, Airworthiness Directive Technical Writer/Editor; telephone (425) 687-4243, fax (425) 227-1232. Questions or comments may also be sent via the Internet using the following address: sandi.carli@faa.gov. Questions or comments sent via the Internet as attached electronic files must be formatted in Microsoft Word 97 for Windows or ASCII text.

SUPPLEMENTARY INFORMATION: A proposal to amend part 39 of the Federal Aviation Regulations (14 CFR part 39) by superseding AD 2000-03-15, amendment 39-11574 (65 FR 8025, February 17, 2000), which is applicable to certain McDonnell Douglas Model MD-11 and MD-11F airplanes, was published in the Federal Register on October 5, 2001 (66 FR 50882). The action proposed to continue to require replacing the existing terminal strips and supports above the main cabin at station Y=5-32.000 with new terminal strips and supports. The action also proposed to replace the applicable terminal strips in the avionics compartment with new terminal strips. The action also proposed to require performing an inspection to detect arcing damage of the surrounding structure of the terminal strips and electrical cables in the avionics compartment, and repairing or replacing any damaged component with a new component.

Comments

Interested persons have been afforded an opportunity to participate in the making of this amendment. No comments were submitted in response to the proposal or the FAA's determination of the cost to the public.

Explanation of Relevant New Service Bulletin

Since issuance of the NPRM, the FAA has reviewed and approved Revision 01 of McDonnell Douglas Alert Service Bulletin MD11-24A178, dated December 17, 2001. Revision 01 of the service bulletin is essentially identical to the original version of the service bulletin (which was referenced in the notice of proposed rulemaking (NPRM) as an appropriate source of service information), but provides clarification of a manual required to accomplish a continuity test and corrects the quantity of washers and a certain item number. We have revised the final rule to reference Revision 01 of the service bulletin as the appropriate source of service information for accomplishing the new actions required by this AD. We also have included a new Note 3 to give operators credit for accomplishing those actions per the original version of the service bulletin.

Explanation of Change to Applicability

The FAA has revised the applicability of the existing AD to identify model designations as published in the most recent type certificate data sheet for the affected models.

Conclusion

After careful review of the available data, the FAA has determined that air safety and the public interest require the adoption of the rule with the changes described previously. The FAA has determined that these changes will neither increase the economic burden on any operator nor increase the scope of the AD.

Cost Impact

There are approximately 133 Model MD-11 and -11F airplanes listed in McDonnell Douglas Alert Service Bulletin MD11-24A178, Revision 01, dated December 17, 2001, of the affected design in the worldwide fleet. The FAA estimates that 52 airplanes of U.S. registry will be affected by this AD.

The new actions that are required in this AD action will take approximately 3 (for Group 1 airplanes) and 4 (for Group 2 airplanes) work hours per airplane to accomplish, at an average labor rate of $60 per work hour. Required parts will cost approximately $1,142 per airplane. Based on these figures, the cost impact of the new requirements of this AD on U.S. operators is estimated to be $1,322 (for Group 1 airplanes) and $1,382 (for Group 2 airplanes) per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. However, the FAA has been advised that manufacturer warranty remedies are available for labor costs associated with accomplishing the actions required by this AD. Therefore, the future economic cost impact of this rule on U.S. operators may be less than the cost impact figure indicated above.

Currently, there are no Model MD-11 airplanes listed in McDonnell Douglas Alert Service Bulletin MD11-24A150, dated March 25, 1999, on the U.S. Register. However, should an affected airplane be imported and placed on the U.S. Register in the future, it will require approximately 1 work hour to accomplish the replacement currently required by AD 2000-03-15, and retained in this AD, at an average labor rate of $60 per work hour. The cost of required parts will be $885. Based on these figures, the cost impact of this AD for this replacement will be $945 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11574 (65 FR 8025, February 17, 2000), and by adding a new airworthiness directive (AD), amendment 39-12809, to read as follows:

2002-14-09 McDonnell Douglas: Amendment 39-12809. Docket 2001-NM-63-AD. Supersedes AD 2000-03-15, Amendment 39-11574.

Applicability: Model MD-11 and MD-11F airplanes, as listed in McDonnell Douglas Alert Service Bulletin MD11-24A150, dated March 25, 1999; and McDonnell Douglas Alert Service Bulletin MD11-24A178, Revision 01, dated December 17, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent electrical arcing caused by power feeder cable terminal lugs grounding against terminal strip support brackets, which could result in smoke and fire in the main cabin or avionics compartment, accomplish the following:

Restatement of Certain Requirements of AD 2000-03-15

Replacement of Terminal Strips and Supports

(a) For airplanes listed in the effectivity of McDonnell Douglas Alert Service Bulletin MD11-24A150, dated March 25, 1999, on which the modification specified in McDonnell Douglas Service Bulletin MD11-24-085, dated August 1, 1995, has not been accomplished: Within 1 year after March 23, 2000 (the effective date of AD 2000-03-15, amendment 39-11574), replace the existing terminal strips and supports above the main cabin at station Y=5-32.000 with new terminal strips and supports in accordance with McDonnell Douglas Alert Service Bulletin MD11-24A150, dated March 25, 1999.

New Actions Required by This AD

Replacement, Inspection, and Corrective Action If Necessary

(b) For airplanes listed in the effectivity of McDonnell Douglas Alert Service Bulletin MD11-24A178, Revision 01, dated December 17, 2001: Within 18 months after the effective date of this AD, do the actions specified in paragraphs (b)(1) and (b)(2) of this AD per the service bulletin.

(1) Replace the applicable terminal strips in the avionics compartment with new terminal strips (including inspecting wires for damage, repairing any damaged wire, and removing the nameplate); and

(2) Perform a general visual inspection to detect arcing damage of the surrounding structure of the terminal strips and electrical cables in the avionics compartment. If any damage is detected, before further flight, repair or replace any damaged component with a new component, per the service bulletin; except if the type of structural material of the surrounding structure that has been affected is not covered in the Structural Repair Manual, repair per a method approved by the Manager, Los Angeles Aircraft Certification Office (ACO), FAA.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Note 3: Accomplishment of the replacement, inspection, and corrective action, before the effective date of this AD, per McDonnell Douglas Alert Service Bulletin MD11-24A178, dated May 14, 2001, is considered acceptable for compliance with the applicable actions specified in this amendment.

Alternative Methods of Compliance

(c) An alternative method of compliance or adjustment of the compliance time that provides an acceptable level of safety may be used if approved by the Manager, Los Angeles ACO, FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) Except as provided by paragraph (b)(2) of this AD, the actions shall be done in accordance with McDonnell Douglas Alert Service Bulletin MD11-24A150, dated March 25, 1999; and McDonnell Douglas Alert Service Bulletin MD11-24A178, Revision 01, dated December 17, 2001; as applicable.

(1) The incorporation by reference of McDonnell Douglas Alert Service Bulletin MD11-24A178, Revision 01, dated December 17, 2001, is approved by the Director of the Federal Register in accordance with 5 U.S.C. 552(a) and 1 CFR part 51.

(2) The incorporation by reference of McDonnell Douglas Alert Service Bulletin MD11-24A150, dated March 25, 1999, was approved previously by the Director of the Federal Register as of March 23, 2000 (65 FR 8025, February 17, 2000).

(3) Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on August 23, 2002.

Issued in Renton, Washington, on July 2, 2002.
Jeffrey E. Duven,
Acting Manager, Transport Airplane Directorate, Aircraft Certification Service.

[FR Doc. 02-17536 Filed 7-18-02; 8:45 am]

BILLING CODE 4910-13-P